NATIONAL AERONAUTICS AND SPACE ADMINISTRATION

[NASA Document No: NASA-24-039; NASA Docket No: NASA-24-0002]

National Environmental Policy Act; Berkeley Space Center at NASA Research Park

AGENCY: National Aeronautics and Space Administration.

ACTION: Notice of intent; notice of meetings; request for comments.

SUMMARY: Pursuant to the National Environmental Policy Act of 1969 (NEPA), as amended, the Council on Environmental Quality Regulations for Implementing the Procedural Provisions of NEPA, and the National Aeronautics and Space Administration's (NASA's) procedures for implementing NEPA, NASA, in cooperation with the University of California, Berkeley (UC Berkeley), will prepare an Environmental Impact Statement (EIS) for the proposed development of the Berkeley Space Center at NASA Research Park. The EIS will be a joint EIS/environmental impact report (EIR) that fulfills the requirements of both NEPA and the California Environmental Quality Act (CEQA). This notice opens a 30-day public scoping period during which the public and other interested parties are encouraged to submit comments as provided for under ADDRESSES to inform the scope of environmental issues which should be considered in the EIS/EIR, including alternatives to the proposed action. The public scoping period is for a period of 30 days from publication of this notice.

DATES: Comments are due by July 26, 2024.

UC Berkeley and NASA will hold two joint online public scoping meetings to inform interested parties about the project, and to provide agencies and the public with an opportunity to provide oral and written comments on the scope and content of the joint EIR/EIS. The first scoping meeting will be held on Wednesday, July 10, 2024 and the second scoping meeting will be held on Monday, July 15, 2024. Information regarding public scoping meetings and the location of project materials is found under SUPPLEMENTARY INFORMATION section of this notice.

ADDRESSES: Advance registration to attend or provide a comment at the virtual public meetings described under SUPPLEMENTARY INFORMATION is not required. Public meeting attendees may submit comments during the public meeting, or by other means described below throughout the 30-day comment period. You may submit written comments and materials by one of the following methods:

• U.S. mail: NASA Ames Research Center, Attn: Berkeley Space Center at NASA Research Park, M/S 204-15, Moffett Field, CA 94035-0001.

• Federal E-Rulemaking Portal: Written comments and recommendations for this information collection should be sent within 30 days of publication of this notice to ensure consideration in the Draft EIS/EIR. You may send comments, identified by NASA Docket Number NASA-24-0002 to the Federal e-Rulemaking Portal: http://www.regulations.gov. Follow the online instructions for submitting comments.

We encourage you to submit comments electronically through the Federal eRulemaking Portal at http://www.regulations.gov. If submitting your comments electronically, it is not necessary to also submit a hard copy. All comments received will be posted without change to http://www.regulations.gov. Before including your address, phone number, email address, or other personal identifying information in your comment, be advised that your entire comment—including any personal identifying information you provide—may be publicly available at any time. While you may request, in your comment, to withhold from public review your personal identifying information, we cannot guarantee that your request will be granted.

FOR FURTHER INFORMATION CONTACT: Andrés Estrada, NEPA Program Manager, Natural Resources Manager. NASA Ames Research Center, M/S 204-15, Moffett Field, CA 94035-0001, email andres.v.estrada@nasa.gov, or phone 650-224-8532. Individuals who use telecommunication devices for the deaf (TDD) may call the Federal Relay Service at 1-800-877-8339 between 8 a.m. and 8 p.m., eastern time, Monday through Friday.

SUPPLEMENTARY INFORMATION:

Purpose and Need for the Proposed Action

The joint EIS/EIR will evaluate the environmental impacts of the proposed action related to the proposed construction and occupancy of the Berkeley Space Center at NASA Research Park, which would redevelop the project site with academic and research facilities, including office, laboratories, and research and development (collectively, “research and office uses”); conference and amenity facilities, including a gym, lobbies, and other amenities (collectively, “active uses”); student/faculty housing; short-term lodging; transportation networks; and public open spaces as well as landscaped spaces, to create a state-of-the-art research and education hub that shapes the future of technology and innovation and to advance UC Regents' educational, scientific research, charitable, and other exempt purposes (within the meaning of section 501(c)(3) of the United States Internal Revenue Code). The Berkeley Space Center at NASA Research Park would be located at the NASA owned and operated Ames Research Center (NASA ARC) in Santa Clara County, California.

The purpose of the proposed project is to:

• Facilitate the development and long-term operation of a collaborative research environment at NASA ARC as contemplated in the NASA Ames Development Plan (NADP).

• Create a research development that combines UC Berkeley's mission to accelerate scientific discovery, create innovative technologies, and advance knowledge for the benefit of humanity with NASA's mission to enable exploration, innovative technologies and interdisciplinary scientific discovery through the integration of public and private research and development efforts.

• Strengthen and expand the NASA ARC's global profile, attracting and retaining new research talent as well as generating innovative ideas for use throughout the world and the cosmos.

• Promote collaborative research and development activities among NASA ARC, UC Berkeley, private industry, and non-profit organizations.

• Provide convenient short-term housing and lodging options to primarily support faculty, students, and guests at the NASA ARC.

• Enable more efficient use of land at NASA ARC by demolishing older underutilized buildings and constructing new facilities involved in the creation of the new research space.

The need for the proposed project is as follows:

• To maintain NASA's position at the forefront of technological innovation and as catalyst for space and aeronautical research and technology transfer.

• To strengthen our nation's ability to address the research problems of tomorrow by combining NASA's unique ability to focus on high-risk long-term research; industry's ability to react quickly with applied technology; and the University of California's expertise in educating and providing a vibrant workforce for the future.

Project Location

The project site is on Federal land within the National Aeronautics and Space Administration Ames Research Center (NASA ARC) in Santa Clara County, California (refer to the attached Project Location map). The NASA ARC is located on approximately 2,000 acres between U.S. 101 and the southwestern edge of San Francisco Bay. The city of Mountain View borders the NASA ARC to the south and west; the city of Sunnyvale borders the NASA ARC to the south and east. The NASA ARC is approximately 33 miles south of the city of San Francisco and 8 miles north of the city of San José. As part of the NADP, which is NASA's vision for development of the NASA ARC, development was considered in four areas commonly referred to as the NASA Research Park (NRP), Eastside/Airfield, Bay View, and Ames Campus. The project site is within the NRP.

The approximately 36-acre triangular project site is currently developed with approximately 16 one- or two-story buildings that total approximately 112,000 square feet, along with surface parking lots, roadways, and utility infrastructure. The existing buildings are mostly vacant and many were formerly used as ancillary buildings that supported Navy operations (e.g., office buildings, food service, gas station).

The project site is bounded by Wescoat Road to the north and Cody Road to the east. The southern boundary of the project site is between Edquiba Road and Girard Road. Northwest of the project site, across Wescoat Road, is Shenandoah Plaza, a linear open space surrounded by buildings. Approximately 0.3 mile northeast of the project site, across from the intersection of Wescoat Road and Cody Road, is Hangar One, one of the largest freestanding structures in the world. Hangar One and many of the buildings, landscapes, and objects north of the project site are part of the Shenandoah Plaza Historic District. East of the project site, across Cody Road, is Moffett Federal Airfield. South of the project site is a planned residential development that would include approximately 2,000 residential units; the planned residential development would be located within the NRP, but is not part of the proposed project.

With respect to hazardous materials, ongoing remediation activities in the vicinity of the project site continue to be implemented under the jurisdictions of the United States Environmental Protection Agency and California Regional Water Quality Control Board.

Background

The project site is within the NRP, which was incorporated into the NASA ARC in 1994 following the closure of the former Naval Air Station Moffett Field. In 2002, a programmatic EIS (PEIS) was prepared pursuant to NEPA and was completed with a Record of Decision that provided environmental review for the implementation of the NADP. Since 2002, NASA (or other authorized parties) has redeveloped portions of the NASA ARC with entitled uses under the terms of several ground leases. The project site is one of the parcels considered for redevelopment in the 2002 PEIS. In 2019, NASA invited UC Berkeley, on behalf of the University of California system and its constituent campuses, to explore the feasibility of developing the project site for public and private sector research, professional education, and housing. In May 2021, the Regents authorized UC Berkeley to enter into a joint venture with SKSP NRP, LLC to create Moffett Partners, LLC for the proposed project.

Proposed Action and Alternative

The following two build alternatives (Build Alternative 1 and Build Alternative 2) and the No Action Alternative will be evaluated in the Draft EIS/EIR.

• Build Alternative 1: Build Alternative 1 would create approximately 2.3 million square feet of research uses, a conference center, active uses, student/faculty housing, and short-term lodging for visitors and conference attendees. Build Alternative 1 would include approximately 1.99 million square feet (87 percent) research and office uses; 22,000 square feet (1 percent) conference center uses; 89,000 square feet (4 percent) active uses; 126,0000 square feet (5 percent) student/faculty housing; and 73,000 square feet (3 percent) short-term lodging uses. Build Alternative 1 is considered the proposed project under CEQA and the Proposed Action under NEPA.

• Build Alternative 2: Build Alternative 2 would create approximately 1.4 million square feet of research uses, a conference center, active uses, student/faculty housing, and short-term lodging for visitors and conference attendees. Compared to Build Alternative 1, Build Alternative 2 would provide the same types of uses and the same square footage for most uses, with the exception that Build Alternative 2 would provide less space for research and office uses. Build Alternative 2 would include approximately 1.09 million square feet (78 percent) research and office uses; 22,000 square feet (2 percent) conference center uses; 89,000 square feet (6 percent) active uses; 126,0000 square feet (9 percent) student/faculty housing; and 73,000 square feet (5 percent) short-term lodging uses. Build Alternative 2 is considered one of the alternatives to the proposed project under CEQA; it is also one of the alternatives under NEPA. Build Alternative 2 will be evaluated at the same level of detail as Build Alternative 1 in the joint EIR/EIS.

• No Action Alternative: For the purposes of NEPA, under the No Action Alternative, the project would not be approved by NASA, and would not be constructed and operated at the project site.

As discussed below, Build Alternative 1 and Build Alternative 2 would have the same general site layout; the same maximum building heights; the same conference center, active uses, student/faculty housing, short-term lodging, and open space; the same amount of student/faculty housing; the same amount of short-term lodging; the same utility infrastructure and roadways; and the same ratio of parking spaces.

• Site Layout: Both build alternatives would include buildings that would be oriented around a large open space in the center of the project site, the Central Green. This area would include retail and amenity uses. The proposed research uses would be located along the perimeter of the project site. The proposed student/faculty housing, short-term lodging uses, and conference center would be located in the southwestern corner of the project site. The proposed parking garages would be located in the southwestern and southeastern corners of the project site. Vehicular access would be provided along Wescoat Road, the realigned Cody Road, and the realigned Girard Road (refer to the discussion of Utility Infrastructure and Roadways for more details on roadway realignments).

• Maximum Building Heights: Under both build alternatives, maximum structure heights would be 80 feet, with an exceedance allowed of up to 25 feet for mechanical screens and equipment.

• Conference Center, Active Uses, Student/Faculty Housing, Short-term Lodging Uses, and Open Space: Both build alternatives would include an approximately 20,000-square-foot conference center, approximately 92,000 square feet of active uses, and approximately 199,000 square feet of student/faculty housing and short-term lodging. In addition, both build alternatives would include approximately 10.9 acres of open space, including pathways, active uses (e.g., occupied areas that pedestrians could access via sidewalks or pathways), and passive uses (e.g., open lawns, patios). Landscaping would include a mix of native, climate-adaptive, and drought-resistant plant materials.

• Student/Faculty Housing: Both build alternatives would include approximately 141 student/faculty housing units, which would house approximately 352 residents. The proposed student/faculty housing would be used by students or faculty on a short-term basis (i.e., academic calendar year, semester, summer).

• Short-term Lodging: Both build alternatives would include approximately 99 short-term lodging units, which would accommodate approximately 197 guests. The proposed short-term lodging would be used as temporary lodging for staff, researchers, academics, tenants, and their families visiting the project site for conferences, meetings, research projects, and other short-term events affiliated with or at NASA ARC.

• Utility Infrastructure and Roadways: Both build alternatives would include building-level air source heat pumps for all heating, package air conditioning units for cooling at buildings without office or lab space, and water-cooled chillers for cooling at buildings with office and/or lab spaces. In addition, both build alternatives would have the same infrastructure for utilities (i.e., wet and dry utilities) installed offsite and the same utility connection points to those utilities. Existing NASA critical infrastructure would remain within the project site. Both build alternatives would realign Girard Road north to form the southern boundary of the project site and construct a new connector road between the realigned Girard Road and Wescoat Road along the southwestern corner of the project site. Both build alternatives would also realign Cody Road east to align with centerline of Hanger One, incorporating the design intent from the NADP, which was evaluated in the 2002 PEIS.

• Ratio of Parking Spaces: Parking would be located off the realigned Girard Road within parking structures and/or podium parking at designated areas. While Build Alternative 1 would have more parking spaces than Build Alternative 2 because it would include more space for research and office uses, both build alternatives would have the same parking ratios for each land use, establishing a blended parking ratio of approximately 1.43 parking spots per 1,000 square feet.

As discussed below, the primary differences between Build Alternative 1 and Build Alternative 2 would be the square footage of the research uses, the number of employees, the number of students, and the number of parking spaces.

• Research and Office Uses: Build Alternative 1 would include approximately 1.99 million square feet for research and office uses, whereas Build Alternative 2 would include approximately 1.09 million square feet for research and office uses.

• Employees: Build Alternative 1 would result in approximately 5,789 employees, whereas Build Alternative 2 would result in approximately 3,260 employees. Build Alternative 1 would result in more employees because it would include more space for research and office uses.

• Students: Build Alternative 1 would accommodate up to approximately 177 students at a time, whereas Build Alternative 2 would accommodate up to approximately 96 students at a time. Build Alternative 1 would accommodate more students because it would include more space for research and office uses.

• Parking Spaces: Build Alternative 1 would include approximately 3,290 parking spaces, whereas Build Alternative 2 would include approximately 2,009 parking spaces.

The future sub-tenant users for the proposed research space are not yet known and because the project would be constructed over a period of years, the exact configuration of certain project elements has not yet been determined. Thus, the joint EIR/EIS will evaluate the potential environmental impacts of the project based on conservative, worst case assumptions regarding certain aspects of the project design within specific areas of the project site (referred to as subareas). Specifically, it is anticipated that variations to the following project design elements could occur within seven subareas in the project site: the number and configuration of buildings, the design of the buildings, the allocation of permitted uses among or within the buildings, and the specific locations of mechanical equipment. On the other hand, it is anticipated that the following project elements would be known at the time the joint EIR/EIS is prepared: types of permitted uses, maximum square footage by use and in total, maximum building heights, parking ratios by use, locations of access roads, types and general locations of mechanical equipment, and other project parameters. This approach to the analysis will ensure that the joint EIR/EIS will evaluate the proposed project's maximum potential impact based on potential future building design and configuration to accommodate specific future sub-tenants of the proposed research and office space.

Prior to construction of the proposed project, all of the existing buildings and utilities infrastructure within the project site would be demolished except for the existing NASA critical infrastructure that would remain.

Summary of Expected Impacts

Based on the initial evaluation of the build alternatives, the following impacts would be expected: temporary increases in dust and other air pollutants during construction; temporary increases in noise and vibration during construction; temporary increases in construction traffic on roadways; temporary changes to existing public access; short-term disturbance to and changes in habitat conditions for listed and sensitive species; air quality and greenhouse gas emissions during operation; increases in traffic due to employees, residents, and visitors during operation; increases in building density and height, which could affect visual resources and historic resources in the vicinity of the site; and remediation of soil and groundwater issues known to be present related to historical uses at and near the project site. The proposed action would be required to follow existing soil and groundwater remediation protocols. Details regarding the required remediation would be coordinated with the U.S. Environmental Protection Agency and Responsible Parties in charge of ongoing remediation efforts.

Anticipated Permits and Authorizations

The permits and other authorizations anticipated to be required for the proposed project include but are not limited to the list below:

• Bay Area Air Quality Management District permit for stationary sources,

• San Francisco Bay Regional Water Quality Control Board Clean Water Act Section 401 water quality certification,

• Consultation pursuant to section 7 of the Federal Endangered Species Act with the U.S. Fish and Wildlife Service and National Marine Fisheries Service,

• Consultation with tribes and the State Historic Preservation Officer pursuant to Section 106 of the National Historic Preservation Act and CEQA,

• Encroachment permit or similar permit for any roadway in the city of Mountain View, city of Sunnyvale, Santa Clara Valley Transportation Authority, and California Department of Transportation (Caltrans) rights-of-way, and

• Completion of a Bona fide Prospective Lessee agreement with the U.S. Environmental Protection Agency.

Schedule for the Decision-Making Process

The EIS/EIR process is expected to take approximately 1.5 years and end with a record of decision signed by NASA. Subsequent Federal actions would include review and approval of project plans through the NASA Ames Design Review Process, NASA construction permitting, and securing of permits, approvals, and/or authorizations from external Federal or State agencies as required by applicable laws.

Environmental Impact Statement Public Scoping Process

This notice of intent initiates the 30-day scoping process, which guides the development of the Draft EIS. The scoping process is designed to elicit comments from the public, public agencies, Tribal governments, and other interested parties on the scope of the Draft EIS. UC Berkeley and NASA will hold two joint online public scoping meetings to inform interested parties about the project and its location as well as to provide agencies and the public with an opportunity to provide oral and written comments on the scope and content of the joint EIR/EIS. The scoping meetings will be held exclusively through Zoom videoconference. Members of the public will be able to provide written comments during the meetings in the chat or verbally during an open mic session. The information for the two scoping meetings is as follows:

• Scoping Meeting No. 1, Wednesday, July 10, 2024, Time: 6:00 to 7:30 p.m., Meeting Link: https://capitalstrategies.berkeley.edu/public-meetings

• Scoping Meeting No. 2, Monday, July 15, 2024, Time: 6:00 to 7:30 p.m., Meeting Link: https://capitalstrategies.berkeley.edu/public-meetings

Request for Identification of Potential Alternatives, Information, and Analyses Relevant to the Proposed Action

NASA requests comments concerning the scope of the analysis and identification of relevant information and studies. All interested parties are invited to provide input related to the identification of potential alternatives, information, and analyses relevant to the Proposed Action Alternatives in writing. All written comments should be submitted via any of the methods provided under ADDRESSES.

Lead and Cooperating Agencies

NASA is the lead agency for the EIS. The Regents of the University of California will serve as the lead State agency for the EIR. Cooperating agencies have not been identified at this time; however, NASA continues to coordinate with external agencies and may identify one or multiple cooperating agencies during the scoping period.

Joel Carney,
Associate Administrator of the Office of Strategic Infrastructure, Mission Support Directorate, National Aeronautics and Space Administration.

[FR Doc. 2024-13756 Filed 6-25-24; 8:45 am]

BILLING CODE 7510-13-P